DEPARTMENT OF COMMERCE

International Trade Administration

[A-570-601]

Tapered Roller Bearings and Parts Thereof, Finished and Unfinished, From the People's Republic of China: Preliminary Results of Changed Circumstances Review and Intent To Reinstate Shanghai General Bearing Co., Ltd. in the Antidumping Duty Order

AGENCY: Enforcement and Compliance, International Trade Administration, Department of Commerce.

SUMMARY: The Department of Commerce (the Department) is conducting a changed circumstances review of the antidumping duty order on tapered roller bearings and parts thereof, finished and unfinished (TRBs), from the People's Republic of China (PRC) to determine whether Shanghai General Bearing Co., Ltd. (SGBC/SKF) has resumed dumping TRBs and whether the antidumping order should be reinstated for TRBs from the PRC manufactured and exported by SGBC/SKF. The period of review is June 1, 2014, through May 31, 2015.

We preliminarily determine that SGBC/SKF has sold TRBs at less than normal value (NV) and that TRBs produced and exported by SGBC/SKF should be reinstated in the antidumping order on TRBs from the PRC. We will instruct U.S. Customs and Border Protection (CBP) to suspend liquidation of all entries of TRBs manufactured and exported by SGBC/SKF and entered, or withdrawn from warehouse, for consumption on or after the date of publication of this notice in the Federal Register. Interested parties are invited to comment on these preliminary results.

DATES: Effective Date: July 13, 2016.

FOR FURTHER INFORMATION CONTACT: Alice Maldonado, Enforcement and Compliance, International Trade Administration, U.S. Department of Commerce, 14th Street and Constitution Avenue NW., Washington, DC 20230; telephone (202) 482-4682.

SUPPLEMENTARY INFORMATION:

Scope of the Order

The merchandise covered by the order includes tapered roller bearings and parts thereof. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.¹

¹ For a complete description of the scope of the order, see memorandum from Gary Taverman, Associate Deputy Assistant Secretary for Antidumping and Countervailing Duty Operations, to Ronald K. Lorentzen, Acting Assistant Secretary for Enforcement and Compliance, dated July 5, 2016 entitled “Decision Memorandum for the Preliminary Results of the Antidumping Duty Changed Circumstances Review of Tapered Roller Bearings and Parts Thereof, Finished and Unfinished, from the People's Republic of China” (Preliminary Decision Memorandum), issued concurrently with and hereby adopted by this notice.

Tolling of Deadlines for Preliminary Results

As explained in the memorandum from the Acting Assistant Secretary for Enforcement and Compliance, the Department exercised its discretion to toll all administrative deadlines for the duration of the closure of the Federal Government during Snowstorm “Jonas.” ² Therefore, all deadlines in this segment of the proceeding have been extended by four days. The revised deadline for the preliminary results of this review is now July 5, 2016.³

² See Memorandum to the Record from Ron Lorentzen, Acting Assistant Secretary for Enforcement and Compliance, regarding “Tolling of Administrative Deadlines As a Result of the Government Closure During Snowstorm Jonas,” dated January 27, 2016.

³ We aligned the deadlines of this processing with those in the concurrent 2014-2015 administrative review of TRBs from the PRC. See memorandum from Alice Maldonado, International Trade Compliance Analyst, Office II, to Christian Marsh, Deputy Assistant Secretary for Antidumping and Countervailing Duty Operations, entitled “Tapered Roller Bearings and Parts Thereof, Finished and Unfinished, from the People's Republic of China: Changed Circumstances Review of Shanghai General Bearing Company, Ltd., entitled, Alignment with the 2014-2015 Antidumping Duty Administrative Review of Tapered Roller Bearings from the People's Republic of China,” dated October 27, 2015.

Basis for Reinstatement

In requesting revocation, pursuant to 19 CFR 351.222(b)(2)(i)(B), SGBC/SKF agreed to immediate reinstatement of the order, so long as any exporter or producer is subject to the order, if the Secretary concludes that subsequent to the revocation, SGBC/SKF sold TRBs at less than NV.⁴ Under 19 CFR 351.222(b)(2)(i)(B) as long as any exporter or producer is subject to an antidumping duty order which remains in force, an entity previously granted a revocation may be reinstated under that order if it is established that the entity has resumed the dumping of subject merchandise.

⁴ See Tapered Roller Bearings and Parts Thereof, Finished and Unfinished, From the People's Republic of China; Final Results of Antidumping Duty Administrative Review and Revocation in Part of Antidumping Duty Order, 62 FR 6189 (February 11, 1997) (for the 1993-1994 review) (SGBC/SKF Revocation).

In this case, because other exporters in the PRC remain subject to the TRBs order, the order remains in effect, and SGBC/SKF may be reinstated in the order. The Department granted SGBC/SKF revocation based in part upon its agreement to immediate reinstatement in the antidumping duty order if the Department were to find that the company resumed dumping of TRBs from the PRC.⁵

⁵ See SGBC/SKF Revocation, 62 FR at 6214.

As discussed in the Preliminary Decision Memorandum, we have examined SGBC/SKF's response and have preliminarily found that SGBC/SKF's dumping margin for the review period is greater than de minimis. Accordingly, we preliminarily intend to reinstate SGBC/SKF in the antidumping duty order on TRBs from the PRC.

Methodology

The Department is conducting this changed circumstances review in accordance with section 751(b)(1) of the Tariff Act of 1930, as amended (the Act), and 19 CFR 351.216(d). As noted above, this changed circumstances review is being conducted with respect to TRBs from the PRC manufactured and exported by SGBC/SKF. For SGBC/SKF, we calculated constructed export prices in accordance with section 772 of the Act. Because the PRC is a non-market economy (NME) within the meaning of section 771(18) of the Act, NV has been calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as the Appendix to this notice.

Preliminary Results of Review

The Department preliminarily determines that the following weighted-average dumping margin exists for the period June 1, 2014, through May 31, 2015:

Manufacturer/exporter | Weighted-average dumping margin (percent)
Shanghai General Bearing Co., Ltd | 9.81

Disclosure and Public Comment

The Department will disclose calculations performed for these preliminary results to the parties within five days of the date of publication of this notice in accordance with 19 CFR 351.224(b). Interested parties may submit case briefs no later than 30 days after the date of publication of these preliminary results of review or, if the Department conducts verification of SGBC/SKF's data, seven days after the issuance of the final verification report, whichever date is later.⁶ Rebuttals to case briefs may be filed no later than five days after case briefs are filed and all rebuttal briefs must be limited to comments raised in the case briefs.⁷ Parties who submit comments are requested to submit with the argument: (1) A statement of the issue; (2) a brief summary of the argument; and (3) a table of authorities.⁸

⁶ See 19 CFR 351.309(c)(1)(ii).

⁷ See 19 CFR 351.309(d).

⁸ See 19 CFR 351.309(c)(2).

Any interested party may request a hearing within 30 days of publication of this notice.⁹ Hearing requests should contain the following information: (1) The party's name, address, and telephone number; (2) the number of participants; and (3) a list of the issues to be discussed. Oral presentations will be limited to issues raised in the briefs.¹⁰ If a request for a hearing is made, parties will be notified of the time and date for the hearing to be held at the U.S. Department of Commerce, 14th Street and Constitution Avenue NW., Washington, DC 20230.¹¹

⁹ See 19 CFR 351.310(c).

¹⁰ Id.

¹¹ See 19 CFR 351.310(d).

All submissions, with limited exceptions, must be filed electronically using ACCESS. An electronically filed document must be received successfully in its entirety by 5 p.m. Eastern Time (ET) on the due date. Documents excepted from the electronic submission requirements must be filed manually (i.e., in paper form) with the APO/Dockets Unit in Room 18022 and stamped with the date and time of receipt by 5 p.m. ET on the due date.

Unless otherwise extended, the Department intends to issue the final results of this changed circumstances review, which will include the results of its analysis of all issues raised in the case briefs, within 120 days of publication of these preliminary results.

Reinstatement and Suspension of Liquidation

Because we have preliminarily established that TRBs from the PRC manufactured and exported by SGBC/SKF is being sold at less than NV, SGBC/SKF is hereby preliminarily reinstated in the antidumping duty order. We will instruct CBP to suspend liquidation of all entries of subject merchandise manufactured and exported by SGBC/SKF, entered or withdrawn from warehouse, for consumption on or after the date of publication of this notice in the Federal Register. Furthermore, a cash deposit requirement of 9.81 percent will be in effect for all shipments of the subject merchandise manufactured and exported by SGBC/SKF entered, or withdrawn from warehouse, for consumption on or after the publication date of this notice. This requirement shall remain in effect until further notice.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these preliminary results of review in accordance with sections 751(b)(1) and 777(i)(1) of the Act and 19 CFR 351.221(b) of the Department's regulations.

Dated: July 5, 2016.
Ronald K. Lorentzen,
Acting Assistant Secretary for Enforcement and Compliance.

Appendix—List of Topics Discussed in the Preliminary Decision Memorandum

1. Summary

2. Background

3. Scope of the Order

4. Discussion of the Methodology

a. Non-Market Economy Country Status

b. Separate Rates

c. Collapsing of SGBC/SKF With Another Producer of TRBs

d. Surrogate Country

e. Date of Sale

f. Comparisons to Normal Value

g. Constructed Export Price

h. Value-Added Tax (VAT)

i. Normal Value

j. Currency Conversion

5. Conclusion

[FR Doc. 2016-16472 Filed 7-12-16; 8:45 am]

BILLING CODE 3510-DS-P